DEPARTMENT OF HOUSING AND URBAN DEVELOPMENT

[Docket No. FR-6099-C-02]

Section 8 Housing Assistance Payments Program—Fiscal Year 2018 Inflation Factors for Public Housing Agency Renewal Funding; Correction and Extension of Public Comment Due Date

AGENCY: Office of the Assistant Secretary for Policy Development and Research, HUD.

ACTION: Notice; correction and extension of public comment due date.

SUMMARY: On May 30, 2018, HUD published a notice establishing Renewal Funding Inflation Factors (RFIFs) to adjust Fiscal Year 2018 renewal funding for the Housing Choice Voucher (HCV) program of each public housing agency (PHA), as required by the Consolidated Appropriations Act, 2018. HUD requested comments on potential RFIF methodology changes related to the use of ad hoc surveys conducted for purposes of reevaluating FMRs and their effect on the calculation of RFIFs. HUD did not include information directing the public where to submit public comments. This document extends the public comment deadline by one week and provides the instructions for submitting public comments.

DATES: The comment due date for the notice published at 83 FR 24815 on May 30, 2018, is July 6, 2018. The applicability date remains May 30, 2018.

FOR FURTHER INFORMATION CONTACT: With respect to this supplementary document, contact Aaron Santa Anna, Assistant General Counsel for Regulations, Department of Housing and Urban Development, 451 7th Street SW, Room 10238, Washington, DC 20410; telephone number 202-708-1793 (this is not a toll-free number). Persons with hearing or speech impairments may access this number through TTY by calling the toll-free Federal Relay Service at 800-877-8339.

SUPPLEMENTARY INFORMATION:

Correction

In notice FR Doc. 2018-11587, beginning on page 24815 in the Federal Register of Wednesday, May 30, 2018, the instructions for and location to submit public comments was missing. This notice provides the missing information and extends the public comment deadline by one week. This notice does not change the original applicability date of May 30, 2018. The following information should have been included in the notice publish May 30, 2018, at 83 FR 24815:

DATES: Comments due date: July 6, 2018.

ADDRESSES: Interested persons are invited to submit comments regarding this notice to the Regulations Division, Office of General Counsel, Department of Housing and Urban Development, 451 7th Street SW, Room 10276, Washington, DC 20410-0500. Communications must refer to the original docket number and title. There are two methods for submitting public comments. All submissions must refer to the original docket number and title.

1. Submission of Comments by Mail. Comments may be submitted by mail to the Regulations Division, Office of General Counsel, Department of Housing and Urban Development, 451 7th Street SW, Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of the rule.

No Facsimile Comments. Facsimile (fax) comments are not acceptable.

Public Inspection of Public Comments. All properly submitted comments and communications submitted to HUD will be available for public inspection and copying between 8 a.m. and 5 p.m., weekdays, at the above address. Due to security measures at the HUD Headquarters building, an appointment to review the public comments must be scheduled in advance by calling the Regulations Division at 202-708-3055 (this is not a toll-free number). Individuals with speech or hearing impairments may access this number via TTY by calling the Federal Relay Service at 800-877-8339. Copies of all comments submitted are available for inspection and downloading at www.regulations.gov.

Dated: June 7, 2018.
Aaron Santa Anna,
Assistant General Counsel for Regulations.

[FR Doc. 2018-12591 Filed 6-11-18; 8:45 am]

BILLING CODE 4210-67-P